DEPARTMENT OF COMMERCE

Foreign-Trade Zones Board

[B-3-2022]

Foreign-Trade Zone (FTZ) 31—Granite City, Illinois; Notification of Proposed Production Activity; M.M.O. Companies, Inc.; (Disassembly of Firearms and Ammunition); Mascoutah, Edwardsville and Collinsville, Illinois

America's Central Port District, grantee of FTZ 31, submitted a notification of proposed production activity to the FTZ Board (the Board) on behalf of M.M.O. Companies, Inc., located in Mascoutah, Edwardsville and Collinsville, Illinois within Subzone 31E. The notification conforming to the requirements of the Board's regulations (15 CFR 400.22) was received on February 7, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: Trigger groups, gas piston assemblies, sight assemblies, magazines, rail attachments, dust cover assemblies, muzzle device assemblies, bolt carriers, bolts, operating rods, cocking handles, carrying handles, foregrips/handguards, buttstocks, pistol grips and bayonet lugs from military rifles; empty ammunition cartridge casings; smokeless ammunition powder; ammunition primer; slides, hammers, trigger groups, sights, magazines, grips, bolt carriers and bolts from pistols; foregrips, buttstocks, pistol grips, trigger groups, gas piston assemblies, sight assemblies, magazines, rail attachments, dust cover assemblies, muzzle device assemblies, bolt carriers, bolts, carrying handles, operating rods and cocking handles from rifles; and, foregrips, buttstocks, pistol grips, trigger groups, gas piston assemblies, sight assemblies, magazines, rail attachments, dust cover assemblies, muzzle device assemblies, bolt carriers, bolts, carrying handles, operating rods and cocking handles from shotguns (duty rate ranges from duty-free to 4.2%).

The proposed foreign-status materials and components include: Military rifles; machine guns; semi-automatic pistols; semiautomatic rifles (centerfire); military shotguns; semiautomatic shotguns; pump action shotguns; and, 5.56mm, 7.62mm, .223, .50BMG, .308, 9mm, .45ACP, and .40 ammunition (duty rate ranges from duty-free to 13%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is March 28, 2022.

A copy of the notification will be available for public inspection in the “Online FTZ Information System” section of the Board's website.

For further information, contact Elizabeth Whiteman at Elizabeth.Whiteman@trade.gov.

Dated: February 9, 2022.
Andrew McGilvray,
Executive Secretary.

[FR Doc. 2022-03175 Filed 2-14-22; 8:45 am]

BILLING CODE 3510-DS-P